DEPARTMENT OF THE INTERIOR

National Park Service

[NPS-WASO-CR-14829; PPWOCRADI0, PCU00RP14.R50000]

Information Collection Request Sent to the Office of Management and Budget (OMB) for Approval; Archeology Permit Applications and Reports

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on June 30, 2014. We may not conduct or sponsor and a person is not required to respond to a collection of information unless it displays a currently valid OMB control number. However, under OMB regulations, we may continue to conduct or sponsor this information collection while it is pending at OMB.

DATES: You must submit comments on or before July 30, 2014.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 1849 C Street NW., (2601), Washington, DC 20240 (mail); or madonna_baucum@nps.gov (email). Please include “1024-0037” in the subject line of your comments.

FOR FURTHER INFORMATION CONTACT: To request additional information about this ICR, contact Karen Mudar at Karen_Mudar@nps.gov (email) or 202-354-2103 (telephone). You may review the ICR online at http://www.reginfo.gov. Follow the instructions to review Department of the Interior collections under review by OMB.

SUPPLEMENTARY INFORMATION: OMB Control Number: 1024-0037.

Title: Archeology Permit Applications and Reports, 43 CFR parts 3 and 7.

Form Number(s): DI Form 1926.

Type of Request: Extension of a currently approved collection.

Description of Respondents: Individuals or organizations wishing to excavate or remove archeological resources from public or Indian lands.

Respondent's Obligation: Required to obtain or retain a benefit.

Number of Respondents: 773.

Frequency of Collection: On occasion.

Activity | Number of annual responses | Completion time per response hours | Total annual burden hours
Application | 773 | 2.5 | 1,933
Reports | 773 | .5 | 387
Totals | 1,546 |  | 2,320

Estimated Annual Nonhour Burden Cost: None.

Abstract: Section 4 of the Archeological Resources Protection Act (ARPA) of 1979 (16 U.S.C 470cc), and Section 3 of the Antiquities Act (AA) of 1906 (16 U.S.C. 432), authorize any individual or institution to apply to Federal land managing agencies to scientifically excavate or remove archeological resources from public or Indian lands. Archeological investigations that require permits include excavation, shovel-testing, coring, pedestrian survey (with and without removal of artifacts), underwater archeology, photogrammetry, and rock art documentation. Individuals, academic and scientific institutions, museums, and businesses that propose to conduct archeological field investigations must obtain a permit before the project may begin.

To apply for a permit, applicants submit DI Form 1926 (Application for Permit for Archeological Investigations). In general, an application includes, but is not limited to, the following information:

Statement of Work.

Statement of Applicant's Capabilities.

Statement of Applicant's Past Performance.

Curriculum vitae for Principal Investigator(s) and Project Director(s).

Written consent by State or tribal authorities to undertake the activity on State or tribal lands that are managed by Federal land managing agencies, if required by the State or tribe.

Curation Authorization.

Detailed Schedule of All Project Activities.

Persons receiving a permit must submit a final report upon completion of the field component of the research project.

Comments: On January 21, 2014, we published in the Federal Register (79 FR 3402) a notice of our intent to request that OMB renew approval for this information collection. In that notice, we solicited comments for 60 days, ending on March 24, 2014. We did not receive any comments in response to the notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: June 24, 2014.
Madonna L. Baucum,
Information Collection Clearance Officer, National Park Service.

[FR Doc. 2014-15360 Filed 6-26-14; 4:15 pm]

BILLING CODE 4310-EH-P